DEPARTMENT OF AGRICULTURE

Submission for OMB Review; Comment Request

March 12, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 15, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Cold Storage.

OMB Control Number: 0535-0001.

Summary of Collection: The primary objective of the National Agricultural Statistics Service (NASS) is to prepare and issue State and national estimates of crop and livestock production, value and disposition. The monthly Cold Storage Survey provides information on national supplies of food in refrigerated storage facilities. A biennial survey of refrigerated warehouses is also conducted to provide a benchmark of the capacity available for refrigerated storage of the nation's food supply. The data will be collected under the authority of 7 U.S.C. 2204(a). This statue specifies “The Secretary of Agriculture shall procure and preserve all information concerning agriculture which he can obtain . . . by the collection of statistics . . . and shall distribute them among agriculturists.”

Need and Use of the Information: USDA agencies such as the World Agricultural Outlook Board, Economic Research Service, and Agricultural Marketing Service use this information from the Cold Storage report in setting and administering government commodity programs and in supply and demand analysis. Included in the report are stocks of pork bellies, frozen orange juice concentrate, butter, and cheese which are traded on the Chicago Board of Trade. The timing and frequency of the surveys have evolved to meet the needs of producers, facilities, agribusinesses, and government agencies.

Description of Respondents: Business or other for-profit.

Number of Respondents: 1,584.

Frequency of Responses: Reporting: Monthly; Biennially.

Total Burden Hours: 4,954.

National Agricultural Statistics Service

Title: Custom Work Survey.

OMB Control Number: 0535-NEW.

Summary of Collection: The primary objective of the National Agricultural Statistics Service (NASS) is to prepare and issue State and national estimates of crop and livestock production, value and disposition. This project will concentrate on agricultural operations that have knowledge of rates for custom agricultural work. Custom agricultural work or simply “custom work” is any work completed by others which includes the costs for labor, equipment and fuel for a pre-determined price which will be referred to as a “custom rate.”

Need and Use of the Information: Data collected under this docket are for cooperative agreements between the National Agricultural Statistics Service (NASS) and other cooperators including North Dakota State University and Oklahoma State University. The purpose of the survey is to collect custom rates for custom agricultural work.

Description of Respondents: Business or other for-profit.

Number of Respondents: 41,500.

Frequency of Responses: Reporting: Annually.

Total Burden Hours: 15,024.

National Agricultural Statistics Service

Title: Turfgrass Economic Survey.

OMB Control Number: 0535-NEW.

Summary of Collection: The primary objective of the National Agricultural Statistics Service (NASS) is to prepare and issue State and national estimates of crop and livestock production, value and disposition. This project will collect data from a sample of homeowners, golf courses, cemeteries, sod producers, turfgrass service providers, and commercial businesses with turfgrass in the State of New Jersey. The reference period will be the previous calendar year. The survey will be conducted annually if funding allows. This data collection is voluntary.

Need and Use of the Information: The purpose of this survey is to collect economic information from a sample of homeowners, golf courses, cemeteries, sod producers, turfgrass service providers, and commercial businesses with turfgrass in New Jersey. Data collected will reference the previous calendar year. The summarized data will be used by the New Jersey State Department of Agriculture and Land Grant University to: (1) Evaluate the magnitude of the New Jersey turfgrass industry in terms of number of acres maintained, number of workers, turf related expenses, and its total contribution to the New Jersey economy, and (2) to characterize the nature of New Jersey's turfgrass industry (i.e., species of turfgrass used, product sales, market distribution channels, and maintenance practices).

Description of Respondents: Business or other for-profit.

Number of Respondents: 1,400.

Frequency of Responses: Reporting: Annually.

Total Burden Hours: 1,013.

Kimble Brown,
Departmental Information Collection Clearance Officer.

[FR Doc. 2019-04868 Filed 3-14-19; 8:45 am]

BILLING CODE 3410-20-P